DEPARTMENT OF COMMERCE

National Oceanic and Atmospheric Administration

Proposed Information Collection; Comment Request; National Ocean Recreational Expenditure Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 8, 2010.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Rosemary Kosaka, (831) 420-3988 or Rosemary.Kosaka@noaa.gov.

SUPPLEMENTARY INFORMATION:

I. Abstract

The National Marine Fisheries Service (NMFS) plans to collect data to estimate expenditures on recreational activities in the U.S. that interact with marine resources falling within the scope of NMFS' public trust responsibilities. These activities may include but are not limited to: Wildlife watching (for example, whales or dolphins) from a boat or from shore; kayaking or canoeing in fish habitat areas such as estuaries and sloughs; and snorkeling or scuba diving on fish aggregating devices such as ship wrecks. The survey will help enhance NMFS' understanding of the economic implications of its public trust responsibilities as they relate to non-fishing recreational activities. The data collected may also provide information useful for the purposes of marine spatial planning. Measures of economic performance that may be supported by this data collection include the following: (1) Contribution to net national benefit; and (2) contribution to regional economic impacts (income and employment).

II. Method of Collection

A survey screener will be used to identify possible respondents who will then be asked to complete a voluntary Web-based survey questionnaire on a monthly basis for three or more months.

III. Data

OMB Control Number: None.

Form Number: None.

Type of Review: Regular submission.

Affected Public: Individuals or households.

Estimated Number of Respondents: 20,000.

Estimated Time per Response: 15 minutes survey screener; 15-30 minutes monthly survey.

Estimated Total Annual Burden Hours: 20,000-35,000 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 2, 2009.
Gwellnar Banks,
Management Analyst, Office of the Chief Information Officer.

[FR Doc. E9-29134 Filed 12-7-09; 8:45 am]

BILLING CODE 3510-22-P